DEPARTMENT OF VETERANS AFFAIRS

VA Market Assessment Listening Sessions

AGENCY: Department of Veterans Affairs.

ACTION: Announcement for Public Meetings Regarding VA Health Care.

SUMMARY: Pursuant to the John S. McCain III, Daniel K. Akaka, and Samuel R. Johnson VA Maintaining Internal Systems and Strengthening Integrated Outside Networks (MISSION) Act of 2018 (the VA MISSION Act), the Veterans Health Administration (VHA) Chief Strategy Office (CSO) will be holding public virtual listening sessions with Veterans, Veterans Service Organizations, Community Veterans Engagement Boards (CVEBs) and other interested stakeholders. The primary objectives of the sessions are to learn about Veterans' experiences with VA health care and how Veterans want care to be delivered in the future. Feedback will be used to develop recommendations regarding the modernization or realignment of VHA facilities. The recommendations will be submitted to the Asset and Infrastructure Review (AIR) Commission after approval by the Secretary.

FOR FURTHER INFORMATION CONTACT: Valerie Mattison Brown, Chief Strategy Officer, Veterans Health Administration, Department of Veterans Affairs, 810 Vermont Avenue NW, Washington, DC 20420, 202-461-7115. This is not a toll-free number.

DATES: The listening sessions will start in early calendar year 2021 and continue for several months. The dates, times, and links to the listening sessions will be publicly posted. A link to the posting can be obtained by contacting VHAMAQs@va.gov.

The sessions will be held virtually as a WebEx Event, and it will be open to the public to participate. Information about the meeting and registration to attend can be obtained by emailing VHAMAQs@va.gov.

SUPPLEMENTARY INFORMATION: The sessions are being held to meet requirements in the VA MISSION Act of 2018, related to developing recommendations for the modernization or realignment of VHA facilities and conducting market assessments. VA is required to conduct market assessments under 7330C of title 38, United States Code, as added by Section 106(a) of the VA MISSION Act and Section 203 of the VA MISSION Act. The market assessments will inform recommendations for the modernization or realignment of VHA facilities to be approved by the Secretary and submitted to the AIR Commission, established by the VA MISSION Act. The law requires the President to submit nominations for the AIR Commission to the Senate not later May 31, 2021, prior to the first meeting of the AIR Commission in 2022. In 2023, the AIR Commission will submit its recommendations to the President for review and approval, prior to sending to Congress for review and approval.

As part of the market assessment process and the development of recommendations, VA is required to consider input from local stakeholders and to consult with Veterans and VSOs served by each Veterans Integrated Service Network and medical facility. Feedback collected during the public listening sessions will be used to develop recommendations regarding the modernization or realignment of VHA facilities. Notice is being placed in the Federal Register to inform the public about the opportunity to participate.

All members of the public are invited to attend the local listening sessions. Each session will correspond to a group of VA medical centers or a specific region. VA is seeking to gather the thoughts and feedback from local Veterans, VSOs, and public stakeholders.

Signing Authority

Dat P. Tran, Acting Secretary of Veterans Affairs approved this document on January 26, 2021, and authorized the undersigned to sign and submit the document to the Office of the Federal Register for publication electronically as an official document of the Department of Veterans Affairs.

Luvenia Potts,
Regulation Development Coordinator, Office of Regulation Policy & Management, Office of the Secretary, Department of Veterans Affairs.

[FR Doc. 2021-02446 Filed 2-4-21; 8:45 am]

BILLING CODE 8320-01-P